DEPARTMENT OF TRANSPORTATION

Federal Aviation Administration

14 CFR Part 39

[Docket No. FAA-2005-20660; Directorate Identifier 2004-NM-242-AD]

RIN 2120-AA64

Airworthiness Directives; Boeing Model 777-200 and -300 Series Airplanes

AGENCY: Federal Aviation Administration (FAA), Department of Transportation (DOT).

ACTION: Notice of proposed rulemaking (NPRM).

SUMMARY: The FAA proposes to adopt a new airworthiness directive (AD) for certain Boeing Model 777-200 and -300 series airplanes. This proposed AD would require inspecting for the installation of the tie plate for the wire bundles routed from lower section 41 into the center control stand in the flight deck, and inspecting for any wire chafing or damage and repair if necessary, and installing a tie plate if necessary. This proposed AD is prompted by a report of missing tie plates for the wire bundles. We are proposing this AD to prevent wire chafing, which could result in the loss of flight control, communication, navigation, and engine fire control systems. Loss of these systems could consequently result in a significant reduction of safety margins, an increase in flight crew workload, and in the case where loss of engine fire control is combined with an engine fire, could result in an uncontrollable fire.

DATES: We must receive comments on this proposed AD by May 6, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street SW., room PL-401, on the plaza level of the Nassif Building, Washington, DC. This docket number is FAA-2005-20660; the directorate identifier for this docket is 2004-NM-242-AD.

FOR FURTHER INFORMATION CONTACT: Georgios Roussos, Aerospace Engineer, Systems and Equipment Branch, ANM-130S, FAA, Seattle Aircraft Certification Office, 1601 Lind Avenue, SW., Renton, Washington 98055-4056; telephone (425) 917-6482; fax (425) 917-6590.

SUPPLEMENTARY INFORMATION:

Comments Invited

We invite you to submit any relevant written data, views, or arguments regarding this proposed AD. Send your comments to an address listed under ADDRESSES. Include “Docket No. FAA-2005-20660; Directorate Identifier 2004-NM-242-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report indicating that, during manufacturing, the plastic tie plate for the wire bundle support was found missing on certain Boeing Model 777 series airplanes. Investigation by the manufacturer revealed ambiguity on the wire bundle installation drawing as a root cause of the missing tie plates. The tie plate prevents the wire bundles from chafing against adjacent structures. These wire bundles are routed from the lower section 41 into the center control stand in the flight deck. Wire chafing, if not corrected, could result in loss of flight control, communication, navigation and engine fire control systems. Loss of these systems could consequently result in a significant reduction of safety margins, an increase in flight crew workload, and in the case where loss of engine fire control is combined with an engine fire, could result in an uncontrollable fire.

Relevant Service Information

We have reviewed Boeing Alert Service Bulletin 777-27A0060, dated September 18, 2003. The service bulletin describes procedures for inspecting for the installation of the tie plate for the wire bundles routed from lower section 41 into the center control stand, inspecting for any wire chafing or damage, repairing any wire chafing or damage, and installing a tie plate. Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously, except as discussed below in “Difference Between this Proposed AD and the Service Bulletin” and “Clarification of Error in the Service Bulletin.”

Difference Between This Proposed AD and the Service Bulletin

The service bulletin refers only to an “inspection” for chafing or damage of the wire bundles. We have determined that the procedures in the service bulletin should be described as a “detailed inspection.” Note 1 has been included in this AD to define this type of inspection.

Clarification of Error in the Service Bulletin

There is a typographical error in the Accomplishment Instructions of Boeing Service Bulletin 777-27A0060, dated September 18, 2003. Illustration D in Sheet 3 of 4, Figure 1: Wire Bundle Tie Plate Installation, identifies a part as a “nut cup.” The correct part name is “nut clip.” Boeing may issue an Information Notice on this error.

Costs of Compliance

There are about 289 airplanes of the affected design in the worldwide fleet. The following table provides the estimated costs for U.S. operators to comply with this proposed AD.

Estimated Costs
Action | Work hour | Average labor rate per hour | Parts | Cost per airplane | Number of U.S.-registered airplanes | Fleet cost
Inspection | 1 | $65 | $9 | $74 | 130 | $9,620

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-20660; Directorate Identifier 2004-NM-242-AD.

Comments Due Date

(a) The Federal Aviation Administration (FAA) must receive comments on this AD action by May 6, 2005.

Affected ADs

(b) None.

Applicability

(c) This AD applies to Boeing Model 777-200 and -300 series airplanes, certificated in any category; as identified in Boeing Alert Service Bulletin 777-27A0060, dated September 18, 2003.

Unsafe Condition

(d) This AD was prompted by a report of missing tie plates for wire bundles that are routed from lower section 41 into the center control stand in the flight deck. We are issuing this AD to prevent wire chafing, which could result in the loss of flight control, communication, navigation, and engine fire control systems. Loss of these systems could consequently result in a significant reduction of safety margins, an increase in flight crew workload, and in the case where loss of engine fire control is combined with an engine fire, could result in an uncontrollable fire.

Compliance

(e) You are responsible for having the actions required by this AD performed within the compliance times specified, unless the actions have already been done.

Inspection

(f) Within 18 months after the effective date of this AD, inspect for installation of the tie plate for the wire bundles routed from lower section 41 into the center control stand in the flight deck, in accordance with the Accomplishment Instructions of Boeing Alert Service Bulletin 777-27A0060, dated September 18, 2003.

(1) If the tie plate is found to be installed, no further action is required by this AD.

(2) If the tie plate is missing, before further flight, do a detailed inspection of the wire bundles for any chafing or damage and repair if necessary, and install a tie plate in accordance with the Accomplishment Instructions of the service bulletin.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Alternative Methods of Compliance (AMOCs)

(g) The Manager, Seattle Aircraft Certification Office, FAA, has the authority to approve AMOCs for this AD, if requested in accordance with the procedures found in 14 CFR 39.19.

Issued in Renton, Washington, on March 9, 2005.
Ali Bahrami,
Manager, Transport Airplane Directorate, Aircraft Certification Service.

[FR Doc. 05-5573 Filed 3-21-05; 8:45 am]

BILLING CODE 4910-13-P